DEPARTMENT OF TRANSPORTATION

Research and Special Programs Administration

Office of Hazardous Materials Safety; Notice of Delays in Processing of Exemption Applications

AGENCY: Research and Special Programs Administration, DOT.

ACTION: List of applications delayed more than 180 days.

SUMMARY: In accordance with the requirements of 49 U.S.C. 5117(c), RSPA is publishing the following list of exemption applications that have been in process for 180 days or more. The reason(s) for delay and the expected completion date for action on each application is provided in association with each identified application.

FOR FURTHER INFORMATION CONTACT: R. Ryan Posten, Exemptions Program Officer Hazardous Materials Exemptions and Approvals, Research and Special Programs Administration, U.S. Department of Transportation, 400 Seventh Street, SW., Washington, DC 20590-0001, (202) 366-4535.

Key to “Reasons for Delay”

1. Awaiting additional information from applicant.

2. Extensive public comment under review.

3. Application is technically complex and is of significant impact or precedent-setting and requires extensive analysis.

4. Staff review delayed by other priority issues or volume of exemption applications.

Meaning of Application Number Suffixes

N—New application.

M—Modification request.

PM—Party to application with modification request.

Issued in Washington, DC, on December 20, 2002.
R. Ryan Posten,
Exemptions Program Officer, Office of Hazardous Materials Exemptions and Approvals.

New Exemption Applications
Application No. | Applicant | Reason for delay | Estimated date of completion
11862-N | The BOC Group, Murray Hill, NJ | 4 | 03/31/2003
11927-N | Alaska Marine Lines, Inc., Seattle, WA | 4 | 01/31/2003
12381-N | Ideal Chemical & Supply Co., Memphis, TN | 3 | 05/31/2003
12412-N | Great Western Chemical Company, Portland, OR | 3 | 05/31/2003
12440-N | Luxfer Inc., Riverside, CA | 1 | 05/31/2003
12648-N | Stress Engineering Services, Inc., Houston, TX | 4 | 02/28/2003
12701-N | Fuel Cell Components & Integrators, Inc., Hauppauge, NY | 1 | 01/31/2003
12706-N | Raufoss Composites AS, Raufoss, NO | 1, 3 | 03/31/2003
12715-N | Arkansas Eastman Division, Eastman Chemical Co., Batesville, AR | 4 | 01/31/2003
12718-N | Weldship Corporation, Bethlehem, PA | 4 | 01/31/2003
12751-N | Defense Technology Corporation, Casper, WY | 4 | 01/31/2003
12859-N | Atlantic Research Corporation, Gainesville, VA | 4 | 03/31/2003
12867-N | G.L.I. Citergaz, 964 Civray, FR | 1 | 03/31/2003
12902-N | C&S Railroad Corp., Jim Thorpe, PA | 4 | 01/31/2003
12941-N | The Neiman Marcus Group, Longview, TX | 4 | 01/31/2003
12950-N | Walnut Industries, Inc., Bensalem, PA | 4 | 01/31/2003
12960-N | International Fuel Cells, South Windsor, CT | 4 | 03/31/2003
12973-N | Viking Packing Specialist, Tulsa, OK | 4 | 03/31/2003
12988-N | Air Products & Chemicals, Inc., Allentown, PA | 1 | 05/31/2003
12990-N | Technifab Products, Inc., Brazil, IN | 4 | 01/31/2003
12991-N | General Plastics Manufacturing Company, Tacoma, WA | 4 | 01/31/2003
12998-N | Safety-Kleen Services, Inc., Columbia, SC | 4 | 01/31/2003
12999-N | Safety-Kleen Services, Inc., Columbia, SC | 4 | 01/31/2003
13001-N | The J.C. Smith Co., San Saba, TX | 1 | 03/31/2003
4453-M | Dyno Nobel, Inc., Salt Lake City, UT | 4 | 12/31/2002
4884-M | Matheson Tri-Gas, East Rutherford, NJ | 4 | 01/31/2003
7060-M | Federal Express, Memphis, TN | 4 | 01/31/2003
7277-M | Structural Composites Industries, Pomona, CA | 3 | 02/28/2003
8162-M | Structural Composites Industries, Pomona, CA | 3 | 02/28/2003
8718-M | Structural Composites Industries, Pomona, CA | 3 | 02/28/2003
8723-M | Dyno Nobel, Inc., Salt Lake City, UT | 1 | 01/31/2003
10019-M | Structural Composites Industries, Pomona, CA | 3,4 | 02/28/2003
10751-M | Dyno Nobel, Inc., Salt Lake City, UT | 4 | 01/31/2003
10882-M | Espar Products, Inc., Mississauga, Ontario L5T 1Z8, CN | 4 | 01/31/2003
11194-M | Carleton Technologies Inc., Pressure Technology Div., Glen Burnie, MD | 4 | 01/31/2003
11327-M | Phoenix Services, Inc., Pasadena, MD | 4 | 03/31/2003
11537-M | JCI Jones Chemicals, Inc., Milford, VA | 3 | 05/31/2003
11579-M | Dyno Nobel, Inc., Salt Lake City, UT | 1 | 01/31/2003
11769-M | Great Western Chemical Company, Portland, OR | 3 | 03/31/2003
11769-M | Great Western Chemical Company, Portland, OR | 3 | 03/31/2003
11769-M | Hydrite Chemical Company, Brookfield, WI | 3 | 03/31/2003
11791-M | The Coleman Company, Inc., Wichita, KS | 4 | 01/31/2003
11850-M | Air Transport Association, Washington, DC | 4 | 01/31/2003
11911-M | Transfer Flow, Inc., Chico, CA | 3 | 05/31/2003
11911-M | Transfer Flow, Inc., Chico, CA | 3 | 05/31/2003
12065-M | Petrolab Company, Latham, NY | 4 | 05/31/2003
12443-M | Dow Reichhold Specialty Latex, LLC, Chickamauga, GA | 4 | 01/31/2003
12449-M | Chlorine Service Company, Inc., Kingwood, TX | 4 | 01/31/2003
12599-M | Voltaix, Inc., North Branch, NJ | 4 | 01/31/2003
12866-M | Delta Air Lines (Technical Operations Center), Atlanta, GA | 4 | 01/31/2003

[FR Doc. 03-186 Filed 1-3-03; 8:45 am]

BILLING CODE 4910-60-M